DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs announces that the Advisory Board for Exceptional Children will hold its next meeting in Casa Blanca, Arizona. The purpose of the meeting is to discuss the impact of the Individuals with Disabilities Education Improvement Act Amendments of 2004 on Indian children with disabilities.

DATES: The Board will meet Sunday, March 19, 2006, from 6 p.m. to 9 p.m.; Monday, March 20, 2006, from 7:30 a.m. to 4:30p.m.; and, Tuesday, March 21, 2006, from 8 a.m. to 4 p.m. (MST).

ADDRESSES: The meetings will be held at the Francisco Grande Hotel and Golf Resort, 26000 West Gila Bend Highway, Casa Blanca, Arizona. Written statements may be submitted to Mr. Edward F. Parisian, Director, Office of Indian Education Programs, Bureau of Indian Affairs, 1849 C Street, NW., Mail Stop 3609-MIB, Washington, DC 20240; Telephone (202) 208-6123; Fax (202) 208-3312.

FOR FURTHER INFORMATION CONTACT: Gloria Yepa, Supervisory Education Specialist, Special Education, Bureau of Indian Affairs, Office of Indian Education Programs, Center for School Improvement, P.O. Box 1088, Albuquerque, New Mexico 87103; Telephone (505) 248-7541.

SUPPLEMENTARY INFORMATION: The Advisory Board for Exceptional Children was established to advise the Secretary of the Interior, through the Assistant Secretary—Indian Affairs, on the needs of Indian children with disabilities, as mandated by the Individuals with Disabilities Education Improvement Act Amendments of 2004, Public Law 108-446.

The agenda for this meeting will cover public comments, and new business: (1) State Performance Plan, (2) Office of Special Education Program (OSEP) verification visit/results, (3) the Annual Report, (4) Special Education Supervisor Report Service, (5) Special Education Budget, (6) Parent Involvement Activities, (7) Office of Special Education new organizational information, (8) Procedures for complaint investigations, (9) Monitoring results from the Office of Elementary and Secondary Education, and (10) the Coordinated Service Plan. Meetings are open to the public.

Dated: February 10, 2006.
Michael D. Olsen,
Acting Principal Deputy Assistant Secretary—Indian Affairs.

[FR Doc. E6-2279 Filed 2-15-06; 8:45 am]

BILLING CODE 4310-6W-P